DEPARTMENT OF TRANSPORTATION

Federal Transit Administration

Transfer of Federally Assisted Facility

AGENCY: Federal Transit Administration (FTA), United States Department of Transportation (USDOT).

ACTION: Notice of intent (NOI) to transfer federally assisted land or facility.

SUMMARY: The Administrator of the Federal Transit Administration (FTA) may authorize a recipient of FTA funds to transfer land or a facility to a public body for any public purpose with no further obligation to the Federal Government (the Government) if, among other things, no Federal agency is interested in acquiring the asset for Federal use. FTA is issuing this Notice to advise Federal agencies that the Central Oklahoma Transportation and Parking Authority (COTPA) has requested FTA approval to transfer the Union Station property (Property) to the City of Oklahoma City (City) if no Federal agency is interested in acquiring the asset for Federal use. The 2.75-acre Property is located within the City of Oklahoma City at 300 SW 7th Street, Oklahoma City, OK.

DATES: Any Federal agency interested in acquiring the facility must notify the FTA Region VI office of its interest no later than July 16, 2021.

ADDRESSES: Interested parties should notify FTA's Regional VI Office by writing to Gail Lyssy, Regional Administrator, Federal Transit Administration, 819 Taylor Street, Room 14A02, Fort Worth, TX 76102.

FOR FURTHER INFORMATION CONTACT: Forrest Graham, Regional Counsel, (415) 734-9479.

SUPPLEMENTARY INFORMATION:

Background

Federal public transportation law (49 U.S.C. 5334(h)) sets forth requirements for the transfer of capital assets. Specifically, if a recipient of FTA assistance decides an asset acquired under 49 U.S.C. Chapter 53 at least in part with that assistance is no longer needed for the purpose for which it was acquired, the Secretary of Transportation may authorize the recipient to transfer the asset to a local governmental authority to be used for a public purpose with no further obligation to the Government. 49 U.S.C. 5334(h)(1).

COTPA purchased the Property in the early 1980s to be used as a transit hub with rail service. Due to the realignment of Interstate 40, however, the Property no longer is suitable for either rail or bus transit service. It is currently being used as office space for five COTPA finance employees. The City has committed to incorporating the Property into the $132 million downtown Scissortail Park to serve as the Park's administrative, operations, and maintenance center. Additionally, the City will use the Property for a visitor's center, rentable space for private and public gatherings, a public café space, storage and workshop space for building and repair needs, and recreational and cultural programs for youth and adults.

Determinations

The FTA Administrator may authorize a transfer for a public purpose other than mass transportation only if the FTA Administrator decides:

(A) The asset will remain in public use for at least 5 years after the date the asset is transferred;

(B) There is no purpose eligible for assistance under Chapter 53 of title 49, United States Code, for which the asset should be used;

(C) The overall benefit of allowing the transfer is greater than the interest of the Government in liquidation and return of the financial interest of the Government in the asset, after considering fair market value and other factors; and

(D) Through an appropriate screening or survey process, that there is no interest in acquiring the asset for Government use if the asset is a facility or land.

The FTA Administrator has determined that the above requirements (A), (B), and (C) have been met; this Notice is issued pursuant to requirement (D).

Federal Interest in Acquiring Land or Facility

This Notice implements the requirements of 49 U.S.C. 5334(h)(1)(D). Accordingly, FTA hereby provides notice of the availability of the Property further described below. Any Federal agency interested in acquiring the Property should promptly notify FTA. If no Federal agency is interested in acquiring the Property, FTA will assure that the other requirements specified in 49 U.S.C. 5334(h)(1)(A) through (C) are met before permitting the asset to be transferred.

(Authority: 49 U.S.C. 5334(h))

Nuria I. Fernandez,
Deputy Administrator.

[FR Doc. 2021-12584 Filed 6-15-21; 8:45 am]

BILLING CODE P